NUCLEAR REGULATORY COMMISSION

Advisory Committee on Reactor Safeguards; Meeting Notice

In accordance with the purposes of sections 29 and 182b. of the Atomic Energy Act (42 U.S.C. 2039, 2232b), the Advisory Committee on Reactor Safeguards (ACRS) will hold a meeting on February 6-8, 2003, in Conference Room T-2B3, 11545 Rockville Pike, Rockville, Maryland. The date of this meeting was previously published in the Federal Register on Monday, November 20, 2002 (67 FR 70094).

Thursday, February 6, 2003

8:30 a.m.-8:35 a.m.: Opening Statement by the ACRS Chairman (Open)—The ACRS Chairman will make opening remarks regarding the conduct of the meeting.

8:35 a.m.-10:15 a.m.: Catawba and McGuire License Renewal Application (Open)—The Committee will hear presentations by and hold discussions with representatives of the NRC staff and the Duke Energy Corporation regarding the license renewal application for the Catawba and McGuire Nuclear Plants and the associated NRC staff's final Safety Evaluation Report.

10:30 a.m.-12 Noon: Draft Regulatory Guide DG-1107, “Water Sources for Long-Term Recirculation Cooling Following a Loss-of-Coolant Accident” and Draft Generic Letter 2003-xx, related to the Resolution of GSI-191, “Assessment of Debris Accumulation on PWR Sump Performance” (Open)—The Committee will hear presentations by and hold discussions with representatives of the NRC staff regarding Draft Regulatory Guide DG-1107 and Draft Generic Letter 2003-xx associated with the resolution of Generic Safety Issue (GSI)-191.

1 p.m.-3 p.m.: PTS Reevaluation Project: Technical Bases for Potential Revision to PTS Screening Criterion (Open)—The Committee will hear presentations by and hold discussions with representatives of the NRC staff regarding the technical bases for potential revision to the pressurized thermal shock (PTS) screening criterion.

3:15 p.m.-4:45 p.m.: Draft Final Version of Regulatory Guide DG-1077, “Guidelines for Environmental Qualification of Microprocessor-Based Equipment Important to Safety in Nuclear Power Plants” (Open)—The Committee will hear presentations by and hold discussions with representatives of the NRC staff on the draft final version of DG-1077.

5 p.m.-7:15 p.m.: Proposed ACRS Reports (Open)—The Committee will discuss proposed ACRS reports on matters considered during this meeting, as well as a proposed ACRS report on Safety Culture.

Friday, February 7, 2003

8:30 a.m.-8:35 a.m.: Opening Remarks by the ACRS Chairman (Open)—The ACRS Chairman will make opening remarks regarding the conduct of the meeting.

8:35 a.m.-8:50 a.m.: Subcommittee Report (Open)—Report by the Chairman of the ACRS Subcommittee on Reliability and Probabilistic Risk Assessment regarding the coherence plan for risk-informed regulatory activities that was discussed at the January 22, 2003 Subcommittee meeting.

8:50 a.m.-9:15 a.m.: Subcommittee Report (Open)—Report by the Chairman of the ACRS Subcommittee on Reliability and Probabilistic Risk Assessment regarding the Westinghouse AP1000 passive plant design PRA that was discussed at the January 23-24, 2003 Subcommittee meeting.

9:15 a.m.-10:15 a.m.: Future ACRS Activities/Report of the Planning and Procedures Subcommittee (Open)—The Committee will discuss the recommendations of the Planning and Procedures Subcommittee regarding items proposed for consideration by the full Committee during future meetings. Also, it will hear a report of the Planning and Procedures Subcommittee on matters related to the conduct of ACRS business, including anticipated workload and member assignments.

10:15 a.m.-10:30 a.m.: Reconciliation of ACRS Comments and Recommendations (Open)—The Committee will discuss the responses from the NRC Executive Director for Operations (EDO) to comments and recommendations included in recent ACRS reports and letters. The EDO responses are expected to be made available to the Committee prior to the meeting.

10:45 a.m.-12:15 p.m.: Annual ACRS Report on the NRC Safety Research Program (Open)—The Committee will discuss the draft ACRS Report on the NRC Safety Research Program.

1:15 p.m.-7 p.m.: Proposed ACRS Reports (Open)—The Committee will discuss proposed ACRS reports.

Saturday, February 8, 2003

8:30 a.m.-1 p.m.: Proposed ACRS Reports (Open)—The Committee will continue to discuss proposed ACRS reports. In addition, the Committee will discuss a draft report prepared by an ACRS consultant on the role and use of PRA in the regulatory decisionmaking process.

1 p.m.-1:30 p.m.: Miscellaneous (Open)—The Committee will discuss matters related to the conduct of Committee activities and matters and specific issues that were not completed during previous meetings, as time and availability of information permit.

Procedures for the conduct of and participation in ACRS meetings were published in the Federal Register on October 11, 2002 (67 FR 63460). In accordance with those procedures, oral or written views may be presented by members of the public, including representatives of the nuclear industry. Electronic recordings will be permitted only during the open portions of the meeting. Persons desiring to make oral statements should notify the Associate Director for Technical Support named below five days before the meeting, if possible, so that appropriate arrangements can be made to allow necessary time during the meeting for such statements. Use of still, motion picture, and television cameras during the meeting may be limited to selected portions of the meeting as determined by the Chairman. Information regarding the time to be set aside for this purpose may be obtained by contacting the Associate Director prior to the meeting. In view of the possibility that the schedule for ACRS meetings may be adjusted by the Chairman as necessary to facilitate the conduct of the meeting, persons planning to attend should check with the Associate Director if such rescheduling would result in major inconvenience.

Further information regarding topics to be discussed, whether the meeting has been canceled or rescheduled, as well as the Chairman's ruling on requests for the opportunity to present oral statements and the time allotted therefor can be obtained by contacting Dr. Sher Bahadur, Associate Director for Technical Support (301-415-0138), between 7:30 a.m. and 4:15 p.m., EST.

ACRS meeting agenda, meeting transcripts, and letter reports are available through the NRC Public Document Room at pdr@nrc.gov, or by calling the PDR at 1-800-397-4209, or from the Publicly Available Records System (PARS) component of NRC's document system (ADAMS) which is accessible from the NRC Web site at http://www.nrc.gov/reading-rm/adams.html or http://www.nrc.gov/reading-rm/doc-collections/ (ACRS & ACNW Mtg schedules/agendas).

Videoteleconferencing service is available for observing open sessions of ACRS meetings. Those wishing to use this service for observing ACRS meetings should contact Mr. Theron Brown, ACRS Audio Visual Technician (301-415-8066), between 7:30 a.m. and 3:45 p.m., EST, at least 10 days before the meeting to ensure the availability of this service. Individuals or organizations requesting this service will be responsible for telephone line charges and for providing the equipment and facilities that they use to establish the videoteleconferencing link. The availability of videoteleconferencing services is not guaranteed.

Dated: January 16, 2003.
Andrew L. Bates,
Advisory Committee Management Officer.

[FR Doc. 03-1330 Filed 1-21-03; 8:45 am]

BILLING CODE 7590-01-P